ENVIRONMENTAL PROTECTION AGENCY

[EPA-HQ-OA-2021-0403; FRL-9005-01-OCFO]

Draft FY 2022-2026 Environmental Protection Agency Strategic Plan

AGENCY: Environmental Protection Agency (EPA).

ACTION: Notice of availability; request for public comments.

SUMMARY: The U.S. Environmental Protection Agency (EPA) is announcing the availability of the Draft FY 2022-2026 EPA Strategic Plan for public review and comment, which is being revised as required by the Government Performance and Results Act (GPRA) Modernization Act of 2010 (as amended by the Foundations for Evidence-Based Policymaking Act of 2018). The agency anticipates the final Strategic Plan will be submitted to Congress in February 2022. For this document, the EPA is seeking comment from individual citizens, states, tribes, local governments, industry, the academic community, non-governmental organizations, and all other interested parties.

DATES: Comments must be received on or before November 12, 2021.

ADDRESSES: Submit your comments, identified by Docket ID No. EPA-HQ-OA-2021-0403 to the Federal eRulemaking Portal: http://www.regulations.gov. Follow the online instructions for submitting comments. Once submitted, comments cannot be edited or withdrawn. The EPA may publish any comment received to its public docket. Do not submit electronically any information you consider to be Confidential Business Information (CBI) or other information for which disclosure is restricted by statute. The EPA will generally not consider comments or comment contents located outside of the primary submission (i.e. on the web, cloud, or other file sharing system). Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/, as there may be a delay in processing mail and faxes.

FOR FURTHER INFORMATION CONTACT: Holly Green, Director, Planning Division, Office of Planning, Analysis, and Accountability, Office of the Chief Financial Officer, email address: green.holly@epa.gov.

SUPPLEMENTARY INFORMATION:

Background

The GPRA Modernization Act of 2010 (Pub. L. 111-352), holds federal agencies accountable for using resources wisely and achieving program results. Specifically, the GPRA Modernization Act requires agencies to develop: Strategic Plans, which include a mission statement, long-term goals, objectives, and strategies to achieve them over a four-year time horizon; and two-year Agency Priority Goals to drive significant progress toward Agency leadership priorities. The GPRA Modernization Act also requires agencies to develop Annual Performance Plans, which provide annual performance measures and activities toward the Strategic Plan, and Annual Performance Reports, which evaluate an agency's success in achieving the annual performance measures.

The Foundations for Evidence-Based Policymaking Act of 2018 (Pub. L. 115-435) amended GPRA and requires two additional components in the Strategic Plan: An evidence-building plan, known as a Learning Agenda, which identifies policy-relevant questions for which agencies intend to develop evidence; and a Capacity Assessment, which gauges agencies' capacity to support the development and use of evaluation and other evidence.

The Strategic Plan includes seven strategic goals focused on protecting human health and the environment and four cross-agency strategies that describe the essential ways EPA will work to carry out its mission. The Strategic Plan also establishes long-term performance goals and FY 2022-2023 Agency Priority Goals by which EPA will hold itself accountable to monitor progress in protecting human health and the environment in collaboration with EPA's partners and stakeholders.

Dated: September 27, 2021.
Faisal Amin,
Chief Financial Officer, Office of the Chief Financial Officer.

[FR Doc. 2021-21349 Filed 9-30-21; 8:45 am]

BILLING CODE 6560-50-P